DEPARTMENT OF TRANSPORTATION

Federal Aviation Administration

14 CFR Part 39

[Docket No. FAA-2013-1057; Directorate Identifier 2013-CE-041-AD]

RIN 2120-AA64

Airworthiness Directives; M7 Aerospace LLC Airplanes

AGENCY: Federal Aviation Administration (FAA), DOT.

ACTION: Notice of proposed rulemaking (NPRM).

SUMMARY: We propose to adopt a new airworthiness directive (AD) for all M7 Aerospace LLC Models SA226-AT, SA226-T, SA226-T(B), SA226-TC, SA227-AC (C-26A), SA227-AT, SA227-BC (C-26A), SA227-CC, SA227-DC (C-26B), SA227-TT, SA26-AT, and SA26-T airplanes. This proposed AD was prompted by reports of airplanes with multiple fatigue cracks in the FS 69.31 front pressure bulkhead. This proposed AD would require repetitively inspecting (visually) the FS 51.31 front pressure bulkhead on SA26 series airplanes and FS 69.31 front pressure bulkhead on SA226 and SA227 series airplanes for cracks, and repairing any cracked bulkhead. This proposed AD also requires reporting certain inspection results to M7 Aerospace LLC. We are proposing this AD to correct the unsafe condition on these products.

DATES: We must receive comments on this proposed AD by February 7, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact M7 Aerospace LP, 10823 NE Entrance Road, San Antonio, Texas 78216; phone: (210) 824-9421; fax: (210) 804-7766; Internet: http://www.m7aerospace.com; email: none. You may view this referenced service information at the FAA, Small Airplane Directorate, 901 Locust, Kansas City, Missouri 64106. For information on the availability of this material at the FAA, call 816-329-4148.

Examining the AD Docket

You may examine the AD docket on the Internet at http://www.regulations.gov by searching and locating Docket Number FAA-2013-1057; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Andrew McAnaul, Aerospace Engineer, FAA, ASW-150 (c/o San Antonio MIDO), 10100 Reunion Place, Suite 650, San Antonio, Texas 78216; phone: (210) 308-3365; fax: (210) 308-3370; email: andrew.mcanaul@faa.gov.

SUPPLEMENTARY INFORMATION:

Comments Invited

We invite you to send any written relevant data, views, or arguments about this proposal. Send your comments to an address listed under the ADDRESSES section. Include “Docket No. FAA-2013-1057; Directorate Identifier 2013-CE-041-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We received reports of two M7 Aerospace LLC Model SA227 airplanes with multiple fatigue cracks in the FS 69.31 front pressure bulkhead. The cracks are located in the radii of the left-hand and right-hand part number 27-21027 frames. The cracks were discovered by maintenance personnel after the flight crew reported trouble maintaining normal cabin pressure. The root cause for multiple site fatigue cracking is the normal ground-air-ground pressure cycles.

This unsafe condition, if not corrected, could result in cabin depressurization.

Relevant Service Information

We reviewed M7 Aerospace LLC SA26 Series Service Bulletin 26-53-001 R1; SA226 Series Service Bulletin 226-53-017 R1; SA227 Series Service Bulletin 227-53-011 R1; and SA227 Series Commuter Category Service Bulletin CC7-53-007 R1, all revised November 6, 2013. The service information describes procedures for repetitively inspecting (visually) the FS 51.31 front pressure bulkhead on SA26 series airplanes and FS 69.31 front pressure bulkhead on SA226 and SA227 series airplanes for cracks, and, if any crack damage is found, reporting and repairing any cracked bulkhead.

FAA's Determination

We are proposing this AD because we evaluated all the relevant information and determined the unsafe condition described previously is likely to exist or develop in other products of these same type designs.

Proposed AD Requirements

This proposed AD would require accomplishing the actions specified in the service information described previously. This proposed AD also requires sending the inspection results to M7 Aerospace LLC.

Operators who had the initial inspection and resulting repairs accomplished using procedures different from the M7 Aerospace LLC service information required by this AD action may apply for an alternative method of compliance (AMOC) following the instructions in paragraph (m) of this AD.

Costs of Compliance

We estimate that this proposed AD affects 360 airplanes of U.S. registry.

We estimate the following costs to comply with this proposed AD:

Estimated Costs
Action | Labor cost | Parts cost | Cost per product | Cost on U.S. operators
Inspect visually F.S. 69.31 or F.S. 51.31 bulkhead (as applicable), looking for cracking in the radius | 12 work-hours × $85 per hour = $1,020 per inspection | Not Applicable | $1,020 | $367,200 per inspection cycle.

We estimate the following costs to do any necessary repairs that would be required based on the results of the proposed inspection. We have no way of determining the number of aircraft that might need these repairs:

On-Condition Costs
Action | Labor cost | Parts costs | Cost per product
Repair damage | 400 work-hours × $85 per hour = $34,000 | $8,000 | $42,000

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this AD has been detailed in the Costs of Compliance section of this document and includes time for reviewing instructions, as well as completing and reviewing the collection of information. Therefore, all reporting associated with this proposed AD would be mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

M7 Aerospace LLC: Docket No. FAA-2013-1057; Directorate Identifier 2013-CE-041-AD.

(a) Comments Due Date

We must receive comments by February 7, 2014.

(b) Affected ADs

None.

(c) Applicability

This AD applies to M7 Aerospace LLC Models SA226-AT, SA226-T, SA226-T(B), SA226-TC, SA227-AC (C-26A), SA227-AT, SA227-BC (C-26A), SA227-CC, SA227-DC (C-26B), SA227-TT, SA26-AT, and SA26-T airplanes, all serial numbers, certificated in any category.

(d) Subject

Joint Aircraft System Component (JASC)/Air Transport Association (ATA) of America Code: 5312, Fuselage Main, Bulkhead.

(e) Unsafe Condition

This AD was prompted by reports of airplanes with multiple fatigue cracks in the FS 69.31 front pressure bulkhead. We are issuing this AD to detect and correct cracks in the FS 51.31 (SA26 airplanes) and FS 69.31 (SA226 and SA227 airplanes) front pressure bulkhead, which if not corrected, could result in cabin depressurization.

(f) Compliance

Comply with this AD within the compliance times specified in paragraphs (h) through (j) of this AD, including all subparagraphs, unless already done.

(g) Inspection for Crack Damage

Do a detailed visual inspection of the front pressure bulkhead using the compliance times in paragraphs (h)(1) and (h)(2) of this AD, including all subparagraphs, as applicable.

(1) For all SA26-AT and SA26-T airplanes: Do a detailed visual inspection of the F.S. 51.31 front pressure bulkhead following paragraphs A. through E. of the Accomplishment Instructions in M7 Aerospace LLC SA26 Series Service Bulletin 26-53-001 R1, revised November 6, 2013.

(2) For all SA226-AT, SA226-T, SA226 T(B), and SA226-TC airplanes: Do a detailed visual inspection of the F.S. 69.31 front pressure bulkhead following paragraphs A. through E. of the Accomplishment Instructions in M7 Aerospace LLC SA226 Series Service Bulletin 226-53-017 R1, revised November 6, 2013.

(3) For all SA227-AC (C-26A), SA227-AT, SA227-BC (C-26A), and SA227-TT airplanes: Do a detailed visual inspection of the F.S. 69.31 front pressure bulkhead following paragraphs A. through E. of the Accomplishment Instructions in M7 Aerospace LLC SA227 Series Service Bulletin 227-53-011 R1, revised November 6, 2013.

(4) For all SA227-CC and SA227-DC (C-26B) airplanes: Do a detailed visual inspection of the F.S. 69.31 front pressure bulkhead following paragraphs A. through E. of the Accomplishment Instructions in M7 Aerospace LLC SA227 Series Commuter Category Service Bulletin CC7-53-007 R1, revised November 6, 2013.

Note 1 to paragraph (g) of this AD: Operators who had the initial inspection and resulting repairs accomplished using procedures different from the M7 Aerospace LLC service information required by this AD action may apply for an alternative method of compliance (AMOC) following the instructions in paragraph (m) of this AD.

(h) Bulkhead Inspection Compliance Times

(1) Initially do the inspections for crack damage required by paragraph (g)(1), (g)(2), (g)(3), or (g)(4) of this AD, as applicable, using the compliance times specified below:

(i) For airplanes with 30,000 or more hours TIS, perform the inspection within the next 150 hours TIS after the effective date of this AD;

(ii) For airplanes with at least 25,000 but less than 30,000 hours TIS, perform the inspection within the next 300 hours TIS after the effective date of this AD;

(iii) For airplanes with at least 20,000 but less than 25,000 hours TIS, perform the inspection within the next 450 hours TIS after the effective date of this AD;

(iv) For airplanes with at least 11,000 but less than 20,000 hours TIS, perform the inspection within the next 600 hours TIS after the effective date of this AD; or

(v) For airplanes with less than 11,000 hours TIS, perform the inspection before or upon accumulating 11,000 hours TIS or within the next 600 hours TIS after the effective date of this AD, whichever occurs later.

(2) After the initial inspection specified in paragraph (h)(1) of this AD, to include all subparagraphs, repetitively thereafter do the inspections required in paragraph (g)(1), (g)(2), (g)(3), or (g)(4) of this AD, as applicable, at intervals not to exceed 1,000 hours TIS.

(i) Reporting Requirement for All Airplanes

If any cracks or other damage is found during any inspection required by paragraph (g)(1), (g)(2), (g)(3), or (g)(4) of this AD, before further flight, report all damage to M7 Aerospace LLC using the contact information and reporting criteria specified in paragraph F. of the Accomplishment Instructions in the service information listed in paragraphs (i)(1) through (i)(4) of this AD, as applicable:

(1) M7 Aerospace LLC SA227 Series Commuter Category Service Bulletin CC7-53-007 R1, revised November 6, 2013.

(2) M7 Aerospace LLC SA227 Series Service Bulletin 227-53-011 R1, revised November 6, 2013.

(3) M7 Aerospace LLC SA26 Series Service Bulletin 26-53-001 R1, revised November 6, 2013.

(4) M7 Aerospace LLC SA226 Series Service Bulletin 226-53-017 R1, revised November 6, 2013.

(j) Repair of Crack Damage

If any damage is found during any inspection required by paragraph (g)(1), (g)(2), (g)(3), or (g)(4) of this AD, before further flight, repair the damage following paragraph G. of the Accomplishment Instructions in the service information listed in paragraphs (j)(1) through (j)(4) of this AD, as applicable. The repair scheme provided will be based on the damage reports submitted per paragraph (i) of this AD.

(1) M7 Aerospace LLC SA227 Series Commuter Category Service Bulletin CC7-53-007 R1, revised November 6, 2013.

(2) M7 Aerospace LLC SA227 Series Service Bulletin 227-53-011 R1, revised November 6, 2013.

(3) M7 Aerospace LLC SA26 Series Service Bulletin 26-53-001 R1, revised November 6, 2013.

(4) M7 Aerospace LLC SA226 Series Service Bulletin 226-53-017 R1, revised November 6, 2013.

(k) Credit for Actions Accomplished in Accordance With Previous Service Information

This AD allows credit for the initial inspection and any resulting actions required in paragraphs (g)(1) through (g)(4), (i), and (j) of this AD, including all subparagraphs, if done before the effective date of this AD following the procedures specified in the Accomplishment Instructions of the applicable service information listed in paragraphs (k)(1) through (k)(4) of this AD:

(1) M7 Aerospace LLC SA227 Series Commuter Category Service Bulletin CC7-53-007, dated September 26, 2013.

(2) M7 Aerospace LLC SA227 Series Commuter Category Service Bulletin 227-53-011, dated September 26, 2013.

(3) M7 Aerospace LLC SA26 Series Service Bulletin 226-53-001, dated September 26, 2013.

(4) M7 Aerospace LLC SA226 Series Service Bulletin 226-53-017, dated September 26, 2013.

(l) Paperwork Reduction Act Burden Statement

A Federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Alternative Methods of Compliance (AMOCs)

(1) The Manager, Fort Worth Airplane Certification Office Fort Worth Airplane Certification Office, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (n)(1) of this AD.

(2) Before using any approved AMOC, notify your appropriate principal inspector, or lacking a principal inspector, the manager of the local flight standards district office/certificate holding district office.

(n) Related Information

(1) For more information about this AD, contact Andrew McAnaul, Aerospace Engineer, FAA, ASW-150 (c/o San Antonio MIDO), 10100 Reunion Place, Suite 650, San Antonio, Texas 78216; phone: (210) 308-3365; fax: (210) 308-3370; email: andrew.mcanaul@faa.gov.

(2) For service information identified in this AD, contact M7 Aerospace LP, 10823 NE Entrance Road, San Antonio, Texas 78216; phone: (210) 824-9421; fax: (210) 804-7766; Internet: http://www.m7aerospace.com; email: none. You may view this referenced service information at the FAA, Small Airplane Directorate, 901 Locust, Kansas City, Missouri 64106. For information on the availability of this material at the FAA, call 816-329-4148.

Issued in Kansas City, Missouri, on December 13, 2013.
Earl Lawrence,
Manager, Small Airplane Directorate, Aircraft Certification Service.

[FR Doc. 2013-30503 Filed 12-23-13; 8:45 am]

BILLING CODE 4910-13-P